DEPARTMENT OF COMMERCE

International Trade Administration

[A-583-830]

Stainless Steel Plate in Coils From Taiwan; Notice of Extension of Time Limits for Preliminary Results in Antidumping Duty Administrative Review

AGENCY: Import Administration, International Trade Administration, Department of Commerce.

EFFECTIVE DATE: February 3, 2005.

FOR FURTHER INFORMATION CONTACT: Elizabeth Eastwood or Jill Pollack at (202) 482-3874 or (202) 482-4593, respectively, AD/CVD Operations, Office 2, Import Administration, International Trade Administration, U.S. Department of Commerce, 14th Street and Constitution Avenue, NW., Washington, DC 20230.

SUPPLEMENTARY INFORMATION: Background

On June 30, 2004, the Department published in the Federal Register (69 FR 39409) a notice of initiation of an administrative review of the antidumping duty order on stainless steel plate in coils from Taiwan. The period of review (POR) is May 1, 2003, through April 30, 2004, and the preliminary results are currently due no later than January 31, 2004.

Extension of Preliminary Results

Pursuant to section 751(a)(3)(A) of the Tariff Act of 1930, as amended (the Act), the Department shall make a preliminary determination in an administrative review of an antidumping order within 245 days after the last day of the anniversary month of the date of publication of the order. The Act further provides, however, that the Department may extend the 245-day period to 365 days if it determines it is not practicable to complete the review within the foregoing time period. We determine that it is not practicable to complete this administrative review within the time limits mandated by section 751(a)(3)(A) of the Act because the Department received a filing from the petitioners in this administrative review ¹ on January 21, 2005, in which the petitioners allege that Ta Chen Stainless Pipe Co., Ltd. misclassified entries of subject merchandise made during the POR as non-subject merchandise. The Department requires further time in order to analyze the issue. Consequently, we have extended the deadline for completing the preliminary results until May 31, 2005.

¹ The petitioners are Allegheny Ludlum Corp., United Auto Workers Local 3303, Zanesville Armco Independent Organization and the United Steelworkers of America, and AFL-CIO/CLC.

This extension is in accordance with section 751(a)(3)(A) of the Act (19 U.S.C. 1675(a)(3)(A)) and 19 CFR 351.213(h)(2).

Dated: January 28, 2005.
Barbara E. Tillman,
Acting Deputy Assistant Secretary for Import Administration.

[FR Doc. 05-2088 Filed 2-2-05; 8:45 am]

BILLING CODE 3510-DS-P